FEDERAL COMMUNICATIONS COMMISSION

47 CFR Part 73

[DA 06-264; MB Docket No. 05-134; RM-11207]

Radio Broadcasting Services; Naples and Sanibel, FL

AGENCY: Federal Communications Commission.

ACTION: Final rule.

SUMMARY: This document grants a petition filed by Meridian Broadcasting Inc., licensee of Station WTLT(FM), Channel 229C3, Naples, Florida, requesting the substitution of Channel 229C2 for Channel 229C3 at Naples, Florida, reallotment of Channel 229C2 from Naples to Sanibel, Florida, as its first local service, and modification of the Station WTLT(FM) license to reflect the change. See 70 FR 19400, published April 13, 2005. Channel 229C2 can be allotted to Sanibel in conformity with the Commission's rules, provided there is a site restriction of 8.3 kilometers (5.2 miles) northwest at coordinates 26-30-00 NL and 82-05-00 WL.

DATES: Effective March 23, 2006

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-134, adopted February 2, 2006, and released February 6, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

The FM Table of Allotments currently reflects Channel 228A at Naples, Florida. Station WTLT(FM) was granted a license to specify operation on Channel 229C3 in lieu of Channel 228A at Naples, Florida. See BLH-20030407AAL.

List of Subjects in 47 CFR Part 73

Radio, Radio broadcasting.

The Federal Communications Commission amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Florida, is amended by removing Channel 228A at Naples and by adding Sanibel, Channel 229C2.

Federal Communications Commission.
John A. Karousos,
Assistant Chief, Audio Division, Media Bureau.

[FR Doc. 06-1524 Filed 2-21-06; 8:45 am]

BILLING CODE 6712-01-P